DEPARTMENT OF COMMERCE

International Trade Administration

[A-583-831]

Certain Stainless Steel Sheet and Strip in Coils from Taiwan: Extension of Time Limit for Preliminary Results of Antidumping Administrative Review

AGENCY: Import Administration, International Trade Administration, Department of Commerce.

ACTION: Notice of Extension of Time Limit For Preliminary Results of Antidumping Administrative Review.

SUMMARY: The Department of Commerce (“the Department”) is extending the time limit for the preliminary results of the antidumping administrative review on certain stainless steel sheet and strip in coil from Taiwan.

EFFECTIVE DATE: May 22, 2001.

FOR FURTHER INFORMATION CONTACT: Stephen Bailey or Rick Johnson, AD/CVD Enforcement, Import Administration, International Trade Administration, U.S. Department of Commerce, 14th Street and Constitution Avenue, NW., Washington DC 20230; telephone: (202) 482-1102 or (202) 482-3818, respectively.

The Applicable Statute

Unless otherwise indicated, all citations to the statute are references to the provisions effective January 1, 1995, the effective date of the amendments made to the Tariff Act of 1930 (“the Act”) by the Uruguay Round Agreements Act.

Extension of Time Limit for Preliminary Results

On January 12, 2001, we published an extension of the preliminary results by 90 days. See 66 FR 2884. Because of the complex issues enumerated in the Memorandum from Edward C. Yang to Joseph A. Spetrini, Extension of Time Limit for the Preliminary Results of Administrative Review of Certain Stainless Steel Sheet and Strip in Coils from Taiwan, on file in the Central Records Unit (CRU) of the Main Commerce Building, Room B-099, we find that it is not practicable to complete this review by the scheduled deadline of July 1, 2001. Therefore, in accordance with section 751(a)(3)(A) of the Act, the Department is extending the time period for issuing the preliminary results of review until July 31, 2001.

Dated: May 14, 2001.
Robert M. James,
Acting Deputy Assistant Secretary, AD/CVD Enforcement Group III.

[FR Doc. 01-12859 Filed 5-21-01; 8:45 am]

BILLING CODE 3510-DS-P